DEPARTMENT OF COMMERCE

National Oceanic and Atmospheric Administration

[I.D. 012803A]

Pacific Fishery Management Council; Public Meetings

AGENCY: National Marine Fisheries Service (NMFS), National Oceanic and Atmospheric Administration (NOAA), Commerce.

ACTION: Notice of public meeting.

SUMMARY: The Pacific Fishery Management Council's (Council) Ad Hoc Groundfish Habitat Technical Review Committee (Habitat TRC) will hold a working meeting on the methodology and data being considered for an assessment of Pacific Coast groundfish essential fish habitat. The meeting is open to the public.

DATES: The Ad Hoc Groundfish Habitat Technical Review Committee working meeting will take place Wednesday, February 19, 2003, from 9 a.m. until 5 p.m. The meeting will reconvene from 8 a.m. to 5 p.m. Thursday, February 20.

ADDRESSES: The meeting will be held at the U.S. Department of Commerce, NOAA, 7600 Sand Point Way NE, Building 9 (NOAA Auditorium), Seattle, WA 98115-6349; (206) 526-6150. To gain admittance to the complex, visitors should tell the security guard they are attending the Ad Hoc Groundfish Habitat Technical Review Committee meeting sponsored by the Pacific Fishery Management Council.

Council address: Pacific Fishery Management Council, 7700 NE Ambassador Place, Suite 200, Portland, OR 97220-1384.

FOR FURTHER INFORMATION CONTACT: Ms. Jennifer Gilden; (503) 820-2280.

SUPPLEMENTARY INFORMATION: The purpose of this meeting is to guide the ongoing assessment of essential fish habitat for Pacific Coast groundfish. Specifically, the Habitat TRC will review data consolidated thus far and review a proposed analytical framework for assessing the status of groundfish habitat. The data include mapping efforts and literature reviews on fishing impacts, impacts related to non-fishing activities, and fish/habitat associations. The analytical framework for the assessment has been designed to determine if habitat function has been degraded by environmental and anthropogenic inputs. In so doing, it will provide a basis for informed policy discussions. By holding a public meeting, the Habitat TRC will further provide opportunity for public participation in the assessment process. The Habitat TRC will only consider technical and scientific questions related to the assessment and will not engage in policy discussions as part of its mission.

Although nonemergency issues not contained in the meeting agenda may come before the Habitat TRC for discussion, those issues may not be the subject of formal Habitat TRC action during this meeting. Habitat TRC action will be restricted to those issues specifically listed in this document and any issues arising after publication of this document that require emergency action under section 305 (c) of the Magnuson-Stevens Fishery Conservation and Management Act, provided the public has been notified of the Habitat TRC's intent to take final action to address the emergency.

In our continuing efforts to streamline our meeting notification process, we are building an email notification list. If you would like to be notified of future meetings via email, please contact Ms. Kerry Aden at (503) 820-2409 or kerry.aden@noaa.gov to provide your email address.

Special Accommodations

The meeting is physically accessible to people with disabilities. Requests for sign language interpretation or other auxiliary aids should be directed to Ms. Diane Marston at (206)526-6383 at least 5 days prior to the meeting date.

Dated: January 28, 2003.
Theophilus R. Brainerd,
Acting Director, Office of Sustainable Fisheries, National Marine Fisheries Service.

[FR Doc. 03-2410 Filed 1-31-03; 8:45 am]

BILLING CODE 3510-22-S